DEPARTMENT OF ENERGY

Federal Energy Regulatory Commission

[Docket No. EL01-30-000]

South Carolina Public Service Authority, New Horizon Electric Cooperative, Inc. and Saluda River Electric Cooperative, Inc. v. Duke Energy Corporation; Notice of Filing

March 7, 2001.

Take notice that on February 27, 2001, South Carolina Public Service Authority (Santee Cooper) and The Energy Authority, Inc. (TEA) tendered for filing with the Federal Energy Regulatory Commission (Commission) a Motion to Join Co-Complainant and Reply of the Santee Cooper and TEA.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 14, 2001. Protests will be considered by the Commission to determine the appropriate action to be taken, but will not serve to make protestants parties to the proceedings. Any person wishing to become a party must file a motion to intervene. Copies of this filing on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-6153 Filed 3-12-01; 8:45 am]

BILLING CODE 6717-01-M